DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2)(A)(I.C.) (Increased imports) and (a) (2)(B) (II.B) (No shift in production to a foreign country) have not been met.

TA-W-50,783; Precise Courtesy Corp., Buffalo Grove, IL

TA-W-51,523; Stimson Lumber Co., Arden, WA

TA-W-51,595; Paradise Fisheries, Kodiak, AK

TA-W-51,242; Polyone Corp., O'Sullivan Plastic Div., Yerlington, NE

TA-W-50,867; Eaton Corp., Oshtemo Aftermarket Operation, Ostemo, MI

The workers firm does not produce an article as required for certification under Section 222 of the Trade Act of 1974.

TA-W-51,149; Applied Industrial Technologies, Cloquet, MN

TA-W-51,628; Boeing Aerospace Operations, Long Beach, CA

TA-W-51,456; Symbol Technologies, Chicago Service Center, Arlington Heights, ILA

TA-W-51,434; Power Quest Corp., Orem, UT

TA-W-51,426; 360Networks (USA), Inc., Broomfield, CO

The investigation revealed that criterion (a)(2)(A) (I.A) (no employment declines) have not been met.

TA-W-51,620; Fishing Vessel (F/V) Misty Dawn, King Cove, AK

TA-W-51,632; Fishing Vessel (F/V), Capt'n Jay, Chignik, AK

TA-W-51,208; The Stanley Works, Stanley Access Technologies Div., Farmington, CT

TA-W-51,197; The Boeing Co., Integrated Defense Systems Div., Pueblo, CO

TA-W-51,024 & A, B; Wheeling Pittsburgh Steel Corp., Wheeling, WV, Follansbee, WV and Beech Bottom, WV

The investigation revealed that criterion (a)(2)(A) (I.B.) (Sales or production, or both, did not decline) and (II.B) (has shifted production to a country not under the free trade agreement with the U.S.) have not been met.

TA-W-51,539; Divine Brothers Co., Utica, NY

TA-W-51,633; Fishing Vessel (F/V) Jackie, Metlakatla, AK

The investigation revealed that criteria (a)(2) (A) (I.C) (Increased imports) and (a)(2)(B) (II.C) (Has shifted production to a county not under the free trade agreement with U.S.) have not been met.

TA-W-51,388; Solid State-Filtronic, Inc., Compound Semiconductor, Santa Clara, CA

TA-W-51,038; Tubetronics, Wichita, KS

The following certification has been issued. The requirement of (a)(2)(A) (increased imports) of Section 222 and (II.B) (has shifted production to a country not under the free trade agreement with the U.S.) have not been met.

TA-W-51,488; Essex Electrical, Inc., Sikeston, MO

Affirmative Determinations for Worker Adjustment Assistance

The following certifications have been issued; the date following the company name and location of each determination references the impact date for all workers of such determination.

The following certifications have been issued. The requirements of (a)(2)(A) (increased imports) of Section 222 have been met.

TA-W-51,118; Electrolux Home Products, Inc., Edison, NJ: March 3, 2002.

TA-W-50,450; A.M. Promotions, Inc., a Div. of Carnicella Enterprises, Inc., Ebensburg, PA: December 18, 2001.

TA-W-51,029; Winonics, Inc., Fort Worth, TX: February 27, 2002.

TA-W-51,042; Micron Technology, Inc., Boise and Nampa, ID: February 21, 2002.

TA-W-51,231; Micron Technology, Inc., Manassas, VA: March 10, 2002.

TA-W-51,267; Gemco, Inc., a Div. of Falcon Industries, Estill, SC: March 17, 2002.

TA-W-51,298; Faultless Caster, Evansville, IN: March 17, 2002.

TA-W-51,377; Weyerhaeuser, Plywood Div., Millport, AL: March 21, 2002.

TA-W-51,522; J.E. Morgan Knitting Mills (Sara Lee), Tamaqua, PA: May 4, 2003.

TA-W-51,575; CP Shades, Inc., Sausalito, CA: April 15, 2002.

TA-W-50,487; Nexpak, El Dorado Hills, CA: December 9, 2001.

TA-W-50,522; Louisiana Pacific Corp., Saratoga, WY: December 27, 2001.

TA-W-51,141; Werner Co., Greenville, PA: March 12, 2002.

TA-W-51,380; Colorado Med-Tech, Inc., including workers of Staffing Solutions, Boulder, CO: March 27, 2002.

TA-W-51,448; ITW, Div. of Hobart Corp., Troy, OH: March 28, 2002.

TA-W-51,478; VPI Mirrex, LLC, Delaware City Div., Delaware City, DE: March 28, 2002.

The following certifications have been issued. The requirements of (a)(2)(B) (shift in production) of Section 222 have been met.

TA-W-50,831; EIMCO, LLC, Bluefield, WV: February 3, 2002.

TA-W-50,674; Ametek, U.S. Gauge Div., Bartow, FL: January 21, 2002.

TA-W-51,247 & A; Agilent Technologies, Electronic Products and Solutions Group, Rohnert Park, CA and Santa Rosa, CA: March 13, 2002.

TA-W-51,354; Connor Manufacturing Services, Inc., Southern California Div., including leased workers of Amvigor Engineering Services, Weststaff, Inc., Harte Enterprises, Placement Pros, Helpmates Staffing Services, Corestaff Services and Abacus Staffing for Accounting, Corona, CA: March 25, 2002.

TA-W-51,556; Sylvan America, Inc., Kittanning, PA: April 15, 2002.

TA-W-51,557; Agilent Technologies, Design Validation Div., Colorado Springs, CO: May 26, 2003.

TA-W-51,561; Motorola, Broadband Communications Sector, Tewksbury, MA: April 18, 2002.

TA-W-51,627; Reliant Manufacturing LLC, Longmont, CO: April 25, 2002.

TA-W-51,273; Sonoco Products Co., Consumer Products Div., Denison, TX: March 7, 2002.

The following certification has been issued. The requirement of upstream supplier to a trade certified primary firm has been met.

TA-W-51,004; Fiber-Line, Inc., Hickory, NC: February 17, 2002.

TA-W-51,635; Rustler Fish Co., Haines, AK: April 29, 2002.

Also, pursuant to Title V of the North American Free Trade Agreement Implementation Act (Pub. L. 103-182) concerning transitional adjustment assistance hereinafter called (NAFTA-TAA) and in accordance with section 250(a), Subchaper D, Chapter 2, Title II, of the Trade Act as amended, the Department of Labor presents summaries of determinations regarding eligibility to apply for NAFTA-TAA issued during the month of May 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None

The investigation revealed that the criteria for eligibility have not been met for the reasons specified.

The investigation revealed that the workers of the subject firm did not produce an article within the meaning of section 250(a) of the Trade Act, as amended.

None

Affirmative Determinations NAFTA-TAA

None

I hereby certify that the aforementioned determinations were issued during the month of May 2003. Copies of these determinations are available for inspection in Room C-5311, U.S. Department of Labor, 200 Constitution Avenue, NW., Washington, DC 20210 during normal business hours or will be mailed to persons who write to the above address.

Dated: May 9, 2003.
Terrence Clark,
Acting Director, Division of Trade Adjustment Assistance.

[FR Doc. 03-12426 Filed 5-16-03; 8:45 am]

BILLING CODE 4510-30-P